DEPARTMENT OF COMMERCE

International Trade Administration

[A-570-862]

Foundry Coke Products From the People's Republic of China: Continuation of Antidumping Duty Order

AGENCY: Import Administration, International Trade Administration, Department of Commerce.

DATES: Effective Date: May 31, 2012.

SUMMARY: As a result of the determinations by the Department of Commerce (“Department”) and the International Trade Commission (“ITC”) that revocation of the antidumping duty order on foundry coke products from the People's Republic of China (“PRC”) would likely lead to a continuation or recurrence of dumping and material injury to an industry in the United States, the Department is publishing a notice of continuation of the antidumping duty order.

FOR FURTHER INFORMATION CONTACT: Ricardo Martinez Rivera, AD/CVD Operations, Import Administration, International Trade Administration, U.S. Department of Commerce, 14th Street and Constitution Avenue NW., Washington, DC 20230; telephone: (202) 482-4532.

SUPPLEMENTARY INFORMATION: On December 1, 2011, the Department published the notice of initiation of the sunset review of the antidumping duty order on foundry coke products from the PRC, pursuant to section 751(c) of the Tariff Act of 1930, as amended (“Act”).¹ As a result of its sunset review, the Department determined that revocation of the antidumping duty order on foundry coke from the PRC would likely lead to a continuation or recurrence of dumping and, therefore, notified the ITC of the magnitude of the margins likely to prevail should the order be revoked.² On May 29, 2012, the ITC determined, pursuant to section 751(c) of the Act, that revocation of the antidumping duty order on foundry coke from the PRC would likely lead to a continuation or recurrence of material injury to an industry in the United States within a reasonably foreseeable future.³

¹ See Initiation of Five-Year (“Sunset”) Review, 76 FR 74775 (December 1, 2011).

² See Foundry Coke Products from the People's Republic of China: Final Results of Expedited Second Sunset Review of Antidumping Duty Order, 77 FR 20788 (April 6, 2012) and accompanying Issues and Decision Memorandum.

³ See Foundry Coke Products from China Determination, 77 FR 32998 (June 4, 2012), and USITC Publication 4326 (May 29, 2012), Foundry Coke from China: Investigation No. 731-TA-891 (Second Review).

Scope of the Order

The product covered under the antidumping duty order is coke larger than 100 mm (4 inches) in maximum diameter and at least 50 percent of which is retained on a 100-mm (4 inch) sieve, of a kind used in foundries. The foundry coke products subject to the antidumping duty order were classifiable under subheading 2704.00.00.10 (as of January 1, 2000) and are currently classifiable under subheading 2704.00.00.11 (as of July 1, 2000) of the Harmonized Tariff Schedule of the United States (“HTSUS”). Although the HTSUS subheadings are provided for convenience and customs purposes, our written description of the scope of the order is dispositive.

Continuation of the Order

As a result of these determinations by the Department and the ITC that revocation of the antidumping duty order would likely lead to a continuation or recurrence of dumping and material injury to an industry in the United States, pursuant to section 751(d)(2) of the Act, the Department hereby orders the continuation of the antidumping order on foundry coke products from the PRC. U.S. Customs and Border Protection will continue to collect antidumping duty cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year sunset review and this notice are in accordance with section 751(c) of the Act and published pursuant to section 777(i)(1) of the Act.

Dated: June 4, 2012.
Paul Piquado,
Assistant Secretary for Import Administration.

[FR Doc. 2012-13996 Filed 6-7-12; 8:45 am]

BILLING CODE 3510-DS-P